DEPARTMENT OF TRANSPORTATION

Federal Aviation Administration

14 CFR Part 39

[Docket No. FAA-2015-4203; Directorate Identifier 2015-NM-142-AD; Amendment 39-18299; AD 2015-21-07]

RIN 2120-AA64

Airworthiness Directives; Airbus Airplanes

AGENCY: Federal Aviation Administration (FAA), Department of Transportation (DOT).

ACTION: Final rule; request for comments.

SUMMARY: We are adopting a new airworthiness directive (AD) for certain Airbus Model A330-200, A330-200 Freighter, A330-300, A340-200, A340-300, A340-500, and A340-600 series airplanes. This AD requires a detailed inspection of the girt installation of each escape slide and slide raft, and corrective action if necessary. This AD was prompted by a report of incorrect installation of the girt panel on passenger doors and an incorrectly installed quick release (girt) bar into the girt panel of the slide raft. We are issuing this AD to detect and correct incorrect girt installation of the escape slide and slide raft, which could prevent slide deployment during an emergency, and result in reduced evacuation capacity from the airplane and possible injury to occupants.

DATES: This AD becomes effective November 3, 2015.

The Director of the Federal Register approved the incorporation by reference of a certain publication listed in this AD as of November 3, 2015.

We must receive comments on this AD by December 3, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-4203.

Examining the AD Docket

You may examine the AD docket on the Internet at http://www.regulations.gov by searching for and locating Docket No. FAA-2015-4203; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

The European Aviation Safety Agency (EASA), which is the Technical Agent for the Member States of the European Union, has issued EASA Airworthiness Directive 2015-0183R1, dated September 29, 2015 (referred to after this as the Mandatory Continuing Airworthiness Information, or “the MCAI”), to correct an unsafe condition for certain Airbus Model A330-200, A330-200 Freighter, A330-300, A340-200, A340-300, A340-500, and A340-600 series airplanes. The MCAI states:

During inspections of two different A330 aeroplanes before delivery, incorrect connection of the girt panel was noticed on one passenger (PAX) door 2 and one PAX door 4. Further investigation revealed that the quick release (girt) bar was incorrectly installed into the girt panel of the affected slide raft.

This condition, if not detected and corrected, would cause the slide pack to remain attached to the door, preventing slide deployment during an emergency (door in “ARMED” mode), leading to reduced evacuation capacity from the aeroplane and possible injury to occupants.

Further inspections at the Airbus final assembly line revealed a third case of incorrect installation of girt panel, on one emergency exit door.

Prompted by these findings, Airbus issued Alert Operators Transmission (AOT) A25L004-15 to provide inspection instructions.

For the reasons described above, EASA issued AD 2015-0183 to require a one-time inspection of the escape slide and slide/raft attachments and, depending on findings, accomplishment of applicable corrective action(s) [including reinstalling the slide or declaring the affected door inoperative].

Since that AD was issued, it was found that the Applicability could be reduced by excluding some aeroplanes and that there was a need to clarify the applicable Airbus MPD Tasks and MRBR MSI.

You may examine the MCAI on the Internet at http://www.regulations.gov by searching for and locating Docket No. FAA-2015-4203.

Related Service Information Under 1 CFR Part 51

Airbus has issued Alert Operators Transmission (AOT) A25L004-15, Rev 00, dated August 24, 2015. The service information describes procedures for performing a visual inspection of the girt installations of each slide and slide raft, and corrective action. This service information is reasonably available because the interested parties have access to it through their normal course of business or by the means identified in the ADDRESSES section of this AD.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

An unsafe condition exists that requires the immediate adoption of this AD. The FAA has found that the risk to the flying public justifies waiving notice and comment prior to adoption of this rule because incorrect girt installation of the of escape slide and slide raft could prevent slide deployment during an emergency and result in reduced evacuation capacity from the airplane and possible injury to occupants. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2015-4203; Directorate Identifier 2015-NM-142-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 30 airplanes of U.S. registry.

We also estimate that it will take about 1 work-hour per product to comply with the basic requirements of this AD. The average labor rate is $85 per work-hour. Required parts will cost about $0 per product. Based on these figures, we estimate the cost of this AD on U.S. operators to be $2,550, or $85 per product.

In addition, we estimate that any necessary follow-on actions will take about 18 work-hours, for a cost of $1,530 per escape slide/slide raft. We have no way of determining the number escape slides/slide rafts on the aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-21-07 Airbus: Amendment 39-18299. Docket No. FAA-2015-4203; Directorate Identifier 2015-NM-142-AD.

(a) Effective Date

This AD becomes effective November 3, 2015.

(b) Affected ADs

None.

(c) Applicability

This AD applies to the Airbus airplanes, certificated in any category, as specified in paragraphs (c)(1) and (c)(2) of this AD.

(1) This AD applies to the airplanes identified in paragraphs (c)(1)(i) through (c)(1)(vii) of this AD.

(i) Model A330-201, -202, -203, -223, and -243 airplanes.

(ii) Model A330-223F and -243F airplanes.

(iii) Model A330-301, -302, -303, -321, -322, -323, -341, -342, and -343 airplanes.

(iv) Model A340-211, -212, and -213 airplanes.

(v) Model A340-311, -312, and -313 airplanes.

(vi) Model A340-541 airplanes.

(vii) Model A340-642 airplanes.

(2) This AD does not apply to airplanes on which the installations of all escape slides and slide rafts have passed an inspection as specified in any task/item identified in paragraphs (c)(2)(i) through (c)(2)(v) of this AD.

(i) Task 25-62-41-01-1 Cabin Escape Facilities, of the applicable Airbus Maintenance Planning Document.

(ii) Task 25-62-41-02-1 Cabin Escape Facilities, of the applicable Airbus Maintenance Planning Document.

(iii) Task 25-62-41-03-1 Cabin Escape Facilities, of the applicable Airbus Maintenance Planning Document.

(iv) Task 25-62-41-04-1 Cabin Escape Facilities, of the applicable Airbus Maintenance Planning Document.

(v) Maintenance Schedule Item 25.62.00 section 01, 02, or 03, of the Cabin Escape Facilities, of the applicable Airbus Maintenance Review Board Report.

(d) Subject

Air Transport Association (ATA) of America Code 25, Equipment/furnishings.

(e) Reason

This AD was prompted by a report of incorrect installation of the girt panel on passenger doors and an incorrectly installed quick release (girt) bar into the girt panel of the slide raft. We are issuing this AD to detect and correct incorrect girt installation of the escape slide and slide raft, which could prevent slide deployment during an emergency, and result in reduced evacuation capacity from the airplane and possible injury to occupants.

(f) Compliance

Comply with this AD within the compliance times specified, unless already done.

(g) Inspection

Within 30 days after the effective date of this AD, inspect to identify the slide raft and escape slide part numbers installed on the airplane. A review of the airplane delivery or maintenance records may be used in lieu of the inspection if the slide raft and escape slide part numbers can be conclusively defined through such review.

(h) Affected Slides and Slide Rafts

(1) If the inspection required by paragraph (g) of this AD reveals any slide raft having P/N 7A1508, 7A1510, 7A1539, or 4A3934 series, or any escape slide having P/N 7A1509 or 4A3928 series: Within 30 days after the effective date of this AD, do a detailed inspection of the girt installation of the affected escape slide and slide raft, in accordance with paragraph 4.2 of Airbus AOT A25L004-15, Rev 00, dated August 24, 2015.

(2) For any door position where an affected slide raft or escape slide has been removed and reinstalled, or replaced since the airplane's entry into service, the inspection of the girt installation of the slide raft or escape slide at that position, as required by paragraph (h)(1) of this AD, does not have to be done.

(i) Corrective Action

If, during the inspection required by paragraph (h)(1) of this AD, the girt bar fitted into the girt of an escape slide, or the quick release bar fitted into the girt of a slide raft, is found to be incorrectly installed, before further flight, accomplish the applicable corrective action(s), in accordance with paragraph 4.3 of Airbus AOT A25L004-15, Rev 00, dated August 24, 2015.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

Refer to Mandatory Continuing Airworthiness Information (MCAI) EASA Airworthiness Directive 2015-0183, dated August 31, 2015, for related information. You may examine the MCAI on the Internet at http://www.regulations.gov by searching for and locating Docket No. FAA-2015-4203.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A25L004-15, Rev 00, dated August 24, 2015.

(ii) Reserved.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 11, 2015.
Jeffrey E. Duven,
Manager, Transport Airplane Directorate, Aircraft Certification Service.

[FR Doc. 2015-26603 Filed 10-16-15; 8:45 am]

BILLING CODE 4910-13-P